DEPARTMENT OF LABOR

Employment and Training Administration

[TA-W-64,020]

American Multimedia, Inc., Burlington, NC; Notice of Negative Determination Regarding Application for Reconsideration

By application dated January 6, 2009, a worker requested administrative reconsideration of the Department's negative determination regarding eligibility for workers and former workers of American Multimedia, Inc., Burlington, North Carolina (subject firm) to apply for Trade Adjustment Assistance (TAA) and Alternative Trade Adjustment Assistance (ATAA). The Department's Notice of Affirmative Determination Regarding Application for Reconsideration was signed on January 9, 2009, and published in the Federal Register on January 15, 2009 (74 FR 2632).

The initial determination was based on the Department's findings that imports of replicated media (CDs, VHS tapes, DVDs, and cassette tapes) did not contribute importantly to worker separations at the subject firm and that no shift of production to a foreign country occurred.

In the request for reconsideration, the worker provided additional information regarding the customers of the subject firm and alleges that the customers might have increased imports of CDs, VHS tapes, DVDs, and cassette tapes.

In order to apply for TAA based on increased imports, the subject worker group must meet the group eligibility requirements under Section 222(a) of the Trade Act of 1974, as amended. Under Section 222(a)(2)(A), the following criteria must be met:

A. A significant number or proportion of the workers in such workers' firm, or an appropriate subdivision of the firm, have become totally or partially separated, or are threatened to become totally or partially separated; and

B. The sales or production, or both, of such firm or subdivision have decreased absolutely; and

C. Increased imports of articles like or directly competitive with articles produced by such firm or subdivision have contributed importantly to such workers' separation or threat of separation and to the decline in sales or production of such firm or subdivision.

A careful review of previously-submitted information revealed that neither the subject firm nor its major declining customers imported CDs, VHS tapes, DVDs, and cassette tapes.

During the reconsideration investigation, the Department conducted a survey of the customers identified in the request for reconsideration regarding their purchases of CDs, VHS tapes, DVDs, and cassette tapes (including like or directly competitive articles) during 2006, 2007, and 2008. Based on the information provided by the respondents, the Department determines that none of the customers increased their imports while decreasing their purchases from the subject firm during the relevant period.

Based on the information above, the Department determines that the group eligibility requirements under Section 222(a) of the Trade Act of 1974, as amended, were not met.

In order for the Department to issue a certification of eligibility to apply for ATAA, the subject worker group must be certified eligible to apply for TAA. Since the subject workers are denied eligibility to apply for TAA, the workers cannot be certified eligible for ATAA.

Conclusion

After reconsideration, I affirm the original notice of negative determination of eligibility to apply for worker adjustment assistance for workers and former workers of American Multimedia, Inc., Burlington, North Carolina.

Signed at Washington, DC, this 3rd day of March 2009.
Elliott S. Kushner,
Certifying Officer, Division of Trade Adjustment Assistance.

[FR Doc. E9-5176 Filed 3-10-09; 8:45 am]

BILLING CODE 4510-FN-P